DEPARTMENT OF THE INTERIOR

Bureau of Land Management

[CA-169-1220-AL]

Notice of Public Meeting, Carrizo Plain National Monument Advisory Committee

SUMMARY: In accordance with Federal Land Policy and Management Act (FLPMA) and the Federal Advisory Committee Act of 1972 (FACA), the United States Department of Interior, Bureau of Land Management (BLM), Carrizo Plain National Monument Advisory Committee will meet as indicated below:

DATES: The meeting will be held on Saturday, January 27, 2007, at the Carrisa Elementary School on Highway 58. The school is located approximately 2 miles to the NW of the Soda Lake Road turn-off on Hwy. 58. The meeting will begin at 10 a.m. and finish at 5 p.m.. There will be a public comment period from 3-4 p.m. Please bring your own sack lunch.

SUPPLEMENTARY INFORMATION: The nine-member Carrizo Plain National Monument Advisory Committee advises the Secretary of the Interior, through the Bureau of Land Management, on a variety of public land issues associated the public land management in the Carrizo Plain National Monument in Central California. At this meeting, Monument staff will present updated information on the progress on the draft Carrizo Plain National Monument Resource Management Plan, and discuss other coordination opportunities. This meeting is open to the public, who may present written or verbal comments. Depending on the number of persons wishing to comment, and the time available, the time allotted for individual oral comments may be limited. Individuals who plan to attend and need special assistance such as sign language interpretation or other reasonable accommodations should contact BLM as indicated below.

FOR FURTHER INFORMATION CONTACT: Bureau of Land Management, Attention: Johna Hurl, Acting Monument Manager, 3801 Pegasus Drive, Bakersfield, CA, 93308. Phone at (661) 391-6093 or e-mail at: jhurl@blm.gov.

Dated: November 27, 2006.
Johna Hurl,
Acting Monument Manager, Carrizo Plain National Monument.

[FR Doc. E6-20625 Filed 12-5-06; 8:45 am]

BILLING CODE 4310-40-P